DEPARTMENT OF ENERGY

Federal Energy Regulatory Commission

Combined Notice of Filings

Take notice that the Commission has received the following Natural Gas Pipeline Rate and Refund Report filings:

Filings Instituting Proceedings

Docket Numbers: RP24-265-000.

Applicants: LA Storage, LLC.

Description: § 4(d) Rate Filing: Filing of Negotiated Rate, Conforming IW Agreements to be effective 1/1/2024.

Filed Date: 12/27/23.

Accession Number: 20231227-5174.

Comment Date: 5 p.m. ET 1/8/24.

Docket Numbers: RP24-266-000.

Applicants: Trunkline Gas Company, LLC.

Description: § 4(d) Rate Filing: Non-Conforming NRA with BP Energy Company to be effective 1/1/2024.

Filed Date: 12/28/23.

Accession Number: 20231228-5068.

Comment Date: 5 p.m. ET 1/9/24.

Docket Numbers: RP24-267-000.

Applicants: Trunkline Gas Company, LLC.

Description: § 4(d) Rate Filing: Non-Conforming List Update—BP Energy to be effective 1/1/2024.

Filed Date: 12/28/23.

Accession Number: 20231228-5073.

Comment Date: 5 p.m. ET 1/9/24.

Docket Numbers: RP24-268-000.

Applicants: Iroquois Gas Transmission System, L.P.

Description: § 4(d) Rate Filing: 12.28.23 Negotiated Rates—Emera Energy Services, Inc. R-2715-91 to be effective 1/1/2024.

Filed Date: 12/28/23.

Accession Number: 20231228-5080.

Comment Date: 5 p.m. ET 1/9/24.

Docket Numbers: RP24-269-000.

Applicants: El Paso Natural Gas Company, L.L.C.

Description: § 4(d) Rate Filing: Negotiated Rate Agreement Update (SoCal Jan 24) to be effective 1/1/2024.

Filed Date: 12/28/23.

Accession Number: 20231228-5112.

Comment Date: 5 p.m. ET 1/9/24.

Docket Numbers: RP24-270-000.

Applicants: Southern Natural Gas Company, L.L.C.

Description: § 4(d) Rate Filing: Remove Expired Negotiated Rate Agreement (Texican) to be effective 2/1/2024.

Filed Date: 12/28/23.

Accession Number: 20231228-5135.

Comment Date: 5 p.m. ET 1/9/24.

Docket Numbers: RP24-271-000.

Applicants: Texas Eastern Transmission, LP.

Description: § 4(d) Rate Filing: TETLP EPC FEB 2024 FILING to be effective 2/1/2024.

Filed Date: 12/28/23.

Accession Number: 20231228-5161.

Comment Date: 5 p.m. ET 1/9/24.

Docket Numbers: RP24-272-000.

Applicants: Algonquin Gas Transmission, LLC.

Description: § 4(d) Rate Filing: Negotiated Rates—Yankee Gas to Emera Energy eff 12-29-23 to be effective 12/29/2023.

Filed Date: 12/28/23.

Accession Number: 20231228-5177.

Comment Date: 5 p.m. ET 1/9/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 28, 2023.
Debbie-Anne A. Reese,
Deputy Secretary.

[FR Doc. 2023-28980 Filed 1-3-24; 8:45 am]

BILLING CODE 6717-01-P